DEPARTMENT OF ENERGY

Federal Energy Regulatory Commission

Combined Notice of Filings #1

Take notice that the Commission received the following exempt wholesale generator filings:

Docket Numbers: EG26-71-000.

Applicants: Cartwright Solar II LLC.

Description: Cartwright Solar II LLC submits Notice of Self-Certification of Exempt Wholesale Generator Status.

Filed Date: 11/21/25.

Accession Number: 20251121-5191.

Comment Date: 5 p.m. ET 12/12/25.

Take notice that the Commission received the following Complaints and Compliance filings in EL Dockets:

Docket Numbers: EL26-28-000.

Applicants: County of Yolo, California v. California Independent System Operator Corporation.

Description: Complaint of County of Yolo, California v. California Independent System Operator Corporation.

Filed Date: 11/21/25.

Accession Number: 20251121-5239.

Comment Date: 5 p.m. ET 12/11/25.

Take notice that the Commission received the following electric rate filings:

Docket Numbers: ER22-1640-007.

Applicants: Midcontinent Independent System Operator, Inc.

Description: Compliance filing: 2025-11-21_Amendment to Additional Compliance for Order No. 2222 to be effective 9/1/2026.

Filed Date: 11/21/25.

Accession Number: 20251121-5206.

Comment Date: 5 p.m. ET 12/12/25.

Docket Numbers: ER24-1868-004.

Applicants: El Paso Electric Company.

Description: Compliance filing: El Paso Electric Company submits tariff filing per 35: OATT Revisions—Attachment M to be effective 6/3/2024.

Filed Date: 11/20/25.

Accession Number: 20251120-5260.

Comment Date: 5 p.m. ET 12/11/25.

Docket Numbers: ER25-3146-002.

Applicants: Midcontinent Independent System Operator, Inc.

Description: Tariff Amendment: 2025-11-21_SA 4266 Ameren IL 2nd Sub 1st Rev MPFCA J1199 J1453 J1454 (Havana) to be effective 10/11/2025.

Filed Date: 11/21/25.

Accession Number: 20251121-5330.

Comment Date: 5 p.m. ET 12/12/25.

Docket Numbers: ER25-3284-001.

Applicants: First State Generation, LLC.

Description: Tariff Amendment: First State Generation, LLC submits tariff filing per 35.17(b): Response to Request for Additional Information to be effective 10/25/2025.

Filed Date: 11/20/25.

Accession Number: 20251120-5239.

Comment Date: 5 p.m. ET 12/11/25.

Docket Numbers: ER25-3331-001.

Applicants: Southwest Power Pool, Inc.

Description: Tariff Amendment: Deficiency Response—Clarify Inappropriate Bidding Strategies Regarding EESLs to be effective 8/31/2025.

Accession Number: 20251121-5187.

Comment Date: 5 p.m. ET 12/12/25.

Docket Numbers: ER25-3508-001.

Applicants: Southwest Power Pool, Inc.

Description: Tariff Amendment: 3927R2 SWEPCO GIA Request for Deferral to be effective 12/31/9998.

Filed Date: 11/21/25.

Accession Number: 20251121-5378.

Comment Date: 5 p.m. ET 12/12/25.

Docket Numbers: ER25-3511-001.

Applicants: Southwest Power Pool, Inc.

Description: Tariff Amendment: Southwest Power Pool, Inc. submits tariff filing per 35.17(b): 3878R1 States Edge Wind I GIA Request for Deferral to be effective 12/31/9998.

Filed Date: 11/21/25.

Accession Number: 20251121-5362.

Comment Date: 5 p.m. ET 12/12/25.

Docket Numbers: ER25-3512-001.

Applicants: Southwest Power Pool, Inc.

Description: Tariff Amendment: 3879R1 States Edge Wind I GIA Request for Deferral to be effective 12/31/9998.

Filed Date: 11/21/25.

Accession Number: 20251121-5380.

Comment Date: 5 p.m. ET 12/12/25.

Docket Numbers: ER25-3513-001.

Applicants: Southwest Power Pool, Inc.

Description: Tariff Amendment: Southwest Power Pool, Inc. submits tariff filing per 35.17(b): 3880R1 States Edge Wind I GIA Request for Deferral to be effective 12/31/9998.

Filed Date: 11/21/25.

Accession Number: 20251121-5402.

Comment Date: 5 p.m. ET 12/12/25.

Docket Numbers: ER26-16-001.

Applicants: Petersburg Energy Center, LLC.

Description: Tariff Amendment: Amendment of Certificate of Concurrence to be effective 10/3/2025.

Filed Date: 11/21/25.

Accession Number: 20251121-5405.

Comment Date: 5 p.m. ET 12/12/25.

Docket Numbers: ER26-71-001.

Applicants: NorthWestern Energy Public Service Corporation, Southwest Power Pool, Inc.

Description: Tariff Amendment: NorthWestern Energy Public Service Corporation submits tariff filing per 35.17(b): NorthWestern Energy's Amended Formula Rate Revisions to Comply with Order 898 to be effective 12/8/2025.

Filed Date: 11/21/25.

Accession Number: 20251121-5248.

Comment Date: 5 p.m. ET 12/12/25.

Docket Numbers: ER26-562-000.

Applicants: Southwest Power Pool, Inc.

Description: 205(d) Rate Filing: Revisions to Attachment AF Regarding the Local Market Power Test to be effective 1/21/2026.

Filed Date: 11/20/25.

Accession Number: 20251120-5241.

Comment Date: 5 p.m. ET 12/11/25.

Docket Numbers: ER26-564-000.

Applicants: Midcontinent Independent System Operator, Inc.

Description: 205(d) Rate Filing: Midcontinent Independent System Operator, Inc. submits tariff filing per 35.13(a)(2)(iii: 2025-11-21_Rate Schedule 59 MISO-AECI Joint Planning Agreement to be effective 1/21/2026.

Filed Date: 11/21/25.

Accession Number: 20251121-5055.

Comment Date: 5 p.m. ET 12/12/25.

Docket Numbers: ER26-566-000.

Applicants: Midcontinent Independent System Operator, Inc.

Description: 205(d) Rate Filing: 2025-11-21_SA 3770 NIPSCO-Carpenter Wind Farm 1st Rev GIA (J1069) to be effective 11/13/2025.

Filed Date: 11/21/25.

Accession Number: 20251121-5073.

Comment Date: 5 p.m. ET 12/12/25.

Docket Numbers: ER26-567-000.

Applicants: Avista Corporation.

Description: 205(d) Rate Filing: Avista Corp OATT Revisions to Ancillary Service Schedules to be effective 1/1/2026.

Filed Date: 11/21/25.

Accession Number: 20251121-5123.

Comment Date: 5 p.m. ET 12/12/25.

Docket Numbers: ER26-568-000.

Applicants: PacifiCorp.

Description: 205(d) Rate Filing: Revisions to General Transfer Agreement, PacifiCorp Rate Schedule No. 237 to be effective 1/1/2025.

Filed Date: 11/21/25.

Accession Number: 20251121-5145.

Comment Date: 5 p.m. ET 12/12/25.

Docket Numbers: ER26-569-000.

Applicants: Southwestern Public Service Company, Southwest Power Pool, Inc.

Description: 205(d) Rate Filing: Southwestern Public Service Company submits tariff filing per 35.13(a)(2)(iii: 4535 Invenergy Storage Development & SPS Facilities Service Agr to be effective 1/21/2026.

Filed Date: 11/21/25.

Accession Number: 20251121-5173.

Comment Date: 5 p.m. ET 12/12/25.

Docket Numbers: ER26-570-000.

Applicants: New York Independent System Operator, Inc.

Description: 205(d) Rate Filing: NYISO 205: Proposed Revisions to Implement CHPE MTF to be effective 1/21/2026.

Filed Date: 11/21/25.

Accession Number: 20251121-5190.

Comment Date: 5 p.m. ET 12/12/25.

Docket Numbers: ER26-571-000.

Applicants: Alabama Power Company, Georgia Power Company, Mississippi Power Company.

Description: 205(d) Rate Filing: Alabama Power Company submits tariff filing per 35.13(a)(2)(iii: Amber Meadow Solar Amendment of LGIA to be effective 11/17/2025.

Filed Date: 11/21/25.

Accession Number: 20251121-5221.

Comment Date: 5 p.m. ET 12/12/25.

Docket Numbers: ER26-572-000.

Applicants: Southern California Edison Company.

Description: 205(d) Rate Filing: Southern California Edison Company submits tariff filing per 35.13(a)(2)(iii: Letter Agreement, Simon Project, TOT1030, SA # 370 to be effective 11/22/2025.

Filed Date: 11/21/25.

Accession Number: 20251121-5229.

Comment Date: 5 p.m. ET 12/12/25.

Docket Numbers: ER26-573-000.

Applicants: Black Hills Power, Inc.

Description: 205(d) Rate Filing: Black Hills Power, Inc. submits tariff filing per 35.13(a)(2)(iii: Ministerial Clean Up Tariff Filing to be effective 8/1/2024.

Filed Date: 11/21/25.

Accession Number: 20251121-5231.

Comment Date: 5 p.m. ET 12/12/25.

Docket Numbers: ER26-574-000.

Applicants: PJM Interconnection, L.L.C.

Description: 205(d) Rate Filing: Notice of Cancellation of WMPA Service Agreement No. 7031; Queue No. AF2-416 to be effective 1/21/2026.

Filed Date: 11/21/25.

Accession Number: 20251121-5272.

Comment Date: 5 p.m. ET 12/12/25.

Docket Numbers: ER26-575-000.

Applicants: Westlands Grape, LLC.

Description: 205(d) Rate Filing: Westlands Grape Certificate of Concurrence to SFA to be effective 12/1/2025.

Filed Date: 11/21/25.

Accession Number: 20251121-5320.

Comment Date: 5 p.m. ET 12/12/25.

Docket Numbers: ER26-576-000.

Applicants: Energy Prepay XI, LLC.

Description: Initial Rate Filing: Baseline new to be effective 11/22/2025.

Filed Date: 11/21/25.

Accession Number: 20251121-5328.

Comment Date: 5 p.m. ET 12/12/25.

Docket Numbers: ER26-577-000.

Applicants: FPL Energy Wyman IV LLC.

Description: 205(d) Rate Filing: FPL Energy Wyman IV LLC submits tariff filing per 35.12: ISO-NE Schedule 17-IROL-CIP Cost Recovery Rate Schedule to be effective 11/22/2025.

Filed Date: 11/21/25.

Accession Number: 20251121-5349.

Comment Date: 5 p.m. ET 12/12/25.

Docket Numbers: ER26-578-000.

Applicants: ISO New England Inc., New England Power Pool.

Description: ISO New England Inc., et al.; Filing of Installed Capacity Requirements, Hydro-Quebec Interconnection Capability Credits and Related Values for 2026-2027 and 2027-2028.

Filed Date: 11/21/25.

Accession Number: 20251121-5371.

Comment Date: 5 p.m. ET 12/12/25.

Docket Numbers: ER26-579-000.

Applicants: LPH Marketing, LLC.

Description: 205(d) Rate Filing: Market-Based Rate Tariff Revisions to be effective 11/22/2025.

Filed Date: 11/21/25.

Accession Number: 20251121-5385.

Comment Date: 5 p.m. ET 12/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 21, 2025.
Debbie-Anne A. Reese,
Secretary.

[FR Doc. 2025-21331 Filed 11-26-25; 8:45 am]

BILLING CODE 6717-01-P